DEPARTMENT OF ENERGY

Federal Energy Regulatory Commission

[Docket No. QF06-121-000; QF06-121-001]

Affinity Skilled Living and Rehabilitation Center; Notice of Filing of Notice of Self-Certification of Qualifying Status of a Cogeneration Facility

October 17, 2006.

Take notice that on March 28, 2006, and supplemented on August 16, 2006, Affinity Skilled Living and Rehabilitation Center (Affinity), located at 306 Locust Avenue, Oakdale, New York, filed with the Federal Energy Regulatory Commission a notice of self-certification of a facility as a qualifying cogeneration facility pursuant to 18 CFR 292.207(a) of the Commission's regulations.

Affinity will be a topping-cycle cogeneration plant located in Oakdale, New York. The cogeneration system will utilize a 110 kW natural gas fired internal combustion system to produce electricity and hot water for this facility. Affinity is interconnected with Long Island Power Authority which will provide backup power to Affinity. No utility will purchase the useful electric power output.

A notice of self-certification does not institute a proceeding regarding qualifying facility status; a notice of self-certification provides notice that the entity making filing has determined Affinity meets the applicable criteria to be a qualifying facility. Any person seeking to challenge such qualifying facility status may do so by filing a motion pursuant to 18 CFR 292.207(d)(iii).

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E6-17785 Filed 10-23-06; 8:45 am]

BILLING CODE 6717-01-P